DEPARTMENT OF COMMERCE

National Institute of Standards and Technology

Information Security and Privacy Advisory Board; Request for Nominations

AGENCY: National Institute of Standards and Technology (NIST).

ACTION: Request for nominations of members to serve on the Information Security and Privacy Advisory Board.

SUMMARY: NIST invites and requests nominations of individuals for appointment to the Information Security and Privacy Advisory Board (ISPAB). NIST will consider nominations received in response to this notice for appointment to the Board, in addition to nominations already received.

DATES: The nomination period is open-ended.

ADDRESSES: Please submit nominations to Joan Hash, ISPAB Secretary, NIST, 100 Bureau Drive, M.S. 8930, Gaithersburg, MD 20899-8930. Nominations may also be submitted via fax to (301) 948-2733, Attn: ISPAB Nominations.

Additional information regarding the Board, including its charter and current membership list, may be found on its electronic home page at: http://csrc.nist.gov/ispab/.

FOR FURTHER INFORMATION CONTACT: Joan Hash, ISPAB Designated Federal Official, NIST, 100 Bureau Drive, M.S. 8930, Gaithersburg, MD 20899-8930; telephone (301) 975-3357; telefax: (301) 948-1233; or via e-mail at joan.hash@nist.gov.

SUPPLEMENTARY INFORMATION:

I. ISPAB Information

The ISPAB was originally chartered as the Computer System Security and Privacy Advisory Board (CSSPAB) by the Department of Commerce pursuant to the Computer Security Act of 1987 (Pub. L. 100-235). As a result of the E-Government Act of 2002 (Pub. L. 107-347), Title III, the Federal Information Security Management Act of 2002, Section 21 of the National Institute of Standards and Technology Act (15 U.S.C. 278g-4, the Board's charter was amended. This amendment included the name change of the Board.

Objectives and Duties

The objectives and duties of the ISPAB are:

(1) To identify emerging managerial, technical, administrative, and physical safeguard issues relative to information security and privacy.

(2) To advise the NIST, the Secretary of Commerce, and the Director of the Office of Management and Budget on information security and privacy issues pertaining to Federal Government information systems, including thorough review of proposed standards and guidelines developed by NIST.

(3) To annually report its findings to the Secretary of Commerce, the Director of the Office of Management and Budget, the Director of the National Security Agency, and the appropriate committees of the Congress.

(4) To function solely as an advisory body, in accordance with the provisions of the Federal Advisory Committee Act.

Membership

The ISPAB is comprised of twelve members, in addition to the Chairperson. The membership of the Board includes:

(1) Four members from outside the Federal Government eminent in the information technology industry, at least one of whom is representative of small or medium sized companies in such industries;

(2) Four members from outside the Federal Government who are eminent in the fields of information technology, or related disciplines, but who are not employed by or representative of a producer of information technology equipment; and

(3) Four members from the Federal Government who have information system management experience, including experience in information security and privacy, at least one of these members shall be from the National Security Agency.

Miscellaneous

Members of the ISPAB are not paid for their service, but will, upon request, be allowed travel expenses in accordance with Subchapter I of Chapter 57 of Title 5, United States Code, while otherwise performing duties at the request of the Board Chairperson, while away from their homes or a regular place of business.

Meetings of the Board are two to three days in duration and are held quarterly. The meetings primarily take place in the Washington, DC metropolitan area but may be held at such locations and at such time and place as determined by the majority of the Board.

Board meetings are open to the public and members of the press usually attend. Members do not have access to classified or proprietary information in connection with their Board duties.

II. Nomination Information

Nominations are being accepted in all three categories described above.

Nominees should have specific experience related to information security or electronic privacy issues, particularly as they pertain to Federal information technology. Letters of nominations should include the category of membership for which the candidate is applying and a summary of the candidate's qualifications for that specific category. Also include (where applicable) current or former service on Federal advisory boards and any Federal employment. Each nomination letter should state that the person agrees to the nomination, acknowledges the responsibilities of serving on the ISPAB, and that they will actively participate in good faith in the tasks of the ISPAB.

Besides participation at meetings, it is desired that members be able to devote a minimum of two days between meetings to developing draft issue papers, researching topics of potential interest, and so forth in furtherance of their Board duties.

Selection of ISPAB members will not be limited to individuals who are nominated. Nominations that are received and meet the requirements will be kept on file to be reviewed as Board vacancies occur.

Nominees must be U.S. citizens.

The Department of Commerce is committed to equal opportunity in the workplace and seeks a broad-based and diverse ISPAB membership.

Dated: August 11, 2004.
Hratch G. Semerjian,
Acting Director, NIST.

[FR Doc. 04-18853 Filed 8-17-04; 8:45 am]

BILLING CODE 3510-CN-P